DEPARTMENT OF TRANSPORTATION

Federal Aviation Administration

Mike Monroney Aeronautical Center Environmental Assessment for the Facilities Master Plan; Oklahoma City, OK

AGENCY: Federal Aviation Administration, DOT.

ACTION: Notice of public meeting.

SUMMARY: The Mike Monroney Aeronautical Center (MMAC) Federal Aviation Administration (FAA) announces a public meeting to obtain public comment on the MMAC Site Environmental Assessment for the Facilities Master Plan. The environmental assessment has been prepared in accordance with the National Environmental Policy Act (40 CFR parts 1500-1508) and FAA Order 1050.1E, Environmental Impacts: Policies and Procedures. The environmental assessment document can be reviewed at: https://employees.faa.gov/org/centers/mmac/employee_services/amp/env/. The public meeting will be conducted on Monday, July 28, 2008 at the Mike Monroney Aeronautical Center (6500 S. MacArthur Blvd., Oklahoma City, OK 73169) at 1:30 p.m. in Building 230.

FOR FURTHER INFORMATION CONTACT: Mr. Edward Connell, Federal Aviation Administration, AMP-100, 6500 S. MacArthur Blvd., Oklahoma City, OK 73169; telephone number 405-954-3503. Comments on the environmental assessment should also be submitted to the above office.

Interested persons are invited to comment on the environmental assessment. All comments will be considered by the FAA to the extent practicable.

Federal Aviation Administration, Mike Monroney Aeronautical Center, Office of Facility Management, AMP-1, 6500 S. MacArthur Blvd., Oklahoma City, OK 73169.

Questions may be directed to the individual named above under the heading, FOR FURTHER INFORMATION CONTACT.

Issued in Oklahoma City, OK, July 16, 2008.
Charles T. Sullivan,
Program Director, Office of Facility Management AMP-1.

[FR Doc. E8-17263 Filed 7-29-08; 8:45 am]

BILLING CODE 4910-13-M